DEPARTMENT OF HEALTH AND HUMAN SERVICES

Centers for Disease Control and Prevention

[60Day-11-0314]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed project or to obtain a copy of data collection plans and instruments, call the CDC Reports Clearance Officer on 404-639-5960 or send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The National Survey of Family Growth (NSFG)—(0920-0314)—Extension—Expiration 5/31/2012—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “family formation, growth, and dissolution,” as well as “determinants of health” and “utilization of health care” in the United States. This three-year clearance request includes the data collection in 2012-2014 for the continuous NSFG.

The National Survey of Family Growth (NSFG) was conducted periodically between 1973 and 2002, continuously in 2006-2010, and continuously starting in Fall 2011, by the National Center for Health Statistics, CDC. Each year, about 14,000 households are screened, with about 5,000 participants interviewed annually. Participation in the NSFG is completely voluntary and confidential. Interviews average 60 minutes for males and 80 minutes for females. The response rate since 2006 is about 77 percent for both males and females.

The NSFG program produces descriptive statistics which measure factors associated with birth and pregnancy rates, including contraception, infertility, marriage, divorce, and sexual activity, in the US population 15-44 years; and behaviors that affect the risk of sexually transmitted diseases (STD), including HIV, and the medical care associated with contraception, infertility, and pregnancy and childbirth.

NSFG data users include the DHHS programs that fund it, including CDC/NCHS and ten others (The Eunice Kennedy Shriver National Institute for Child Health and Human Development (NIH/NICHD); the Office of Population Affairs (DHHS/OPA); the Office of the Assistant Secretary for Planning and Evaluation (DHHS/OASPE); the Children's Bureau (DHHS/ACF/CB); the ACF's Office of Planning, Research, and Evaluation; the CDC's Division of HIV/AIDS Prevention (CDC/DHAP); the CDC's Division of STD Prevention (CDC/DSTD); the CDC's Division of Reproductive Health (CDC/DRH); the CDC's Division of Cancer Prevention and Control (CDC/DCPC); and the CDC's Division of Birth Defects and Developmental Disabilities (DBDDD). The NSFG is also used by state and local governments; private research and action organizations focused on men's and women's health, child well-being, marriage and the family; academic researchers in the social and public health sciences; journalists, and many others.

This submission requests approval for three years. No questionnaire changes are requested in the first 18 months of this clearance; some limited changes may be requested after that, to be responsive to emerging public policy issues.

There is no cost to respondents other than their time.

Estimated Annualized Burden Hours
Type of respondent | Number of respondents | Number of responses per respondent | Average burden per response (in hours) | Total burden hours
1. Screener Respondents | 14,000 | 1 | 3/60 | 700
2. Interview Females | 2,750 | 1 | 1.5 | 4,125
3. Interview Males | 2,250 | 1 | 1.0 | 2,250
4. Verification Questions | 1,400 | 1 | 5/60 | 117
5. Testing questions | 250 | 1 | 1 | 250
Total |  |  |  | 7,442

Dated: August 31, 2011.
Daniel Holcomb,
Reports Clearance Officer, Centers for Disease Control and Prevention.

[FR Doc. 2011-22790 Filed 9-6-11; 8:45 am]

BILLING CODE 4163-18-P